DEPARTMENT OF COMMERCE

National Oceanic and Atmospheric Administration

[I.D. 061604D]

Atlantic Highly Migratory Species; Exempted Fishing Permits

AGENCY: National Marine Fisheries Service (NMFS), National Oceanic and Atmospheric Administration (NOAA), Commerce.

ACTION: Notice of receipt of a request for exempted fishing permits; request for comments.

SUMMARY: NMFS announces the receipt of a request for exempted fishing permits (EFPs) for tuna purse seine vessels to transfer purse seine caught bluefin tuna (BFT) to a towed cage for the purposes of examining premature shedding of pop-up satellite tags, investigating alternative harvesting methods, and gathering information on how delayed landing of purse seine captured BFT impacts market prices. NMFS invites comments from interested parties on potential concerns should these EFPs be issued.

DATES: Written comments on the proposed exempted fishing activity must be received no later than July 12, 2004.

ADDRESSES: You may submit comments by any of the following methods:

• Email: ID061604D@noaa.gov. Include in the subject line the following identifier: I.D. 061604D.

• Mail: Christopher Rogers, Chief, Highly Migratory Species Management Division (F/SF1), NMFS, 1315 East-West Highway, Silver Spring, MD 20910.

• Fax: (301)713-1917.

FOR FURTHER INFORMATION CONTACT: Heather Stirratt, phone: 301-713-2347; fax: 301-713-1917.

SUPPLEMENTARY INFORMATION: EFPs are requested and issued under the authority of the Magnuson-Stevens Fishery Conservation and Management Act (16 U.S.C. 1801 et seq.) and/or the Atlantic Tunas Convention Act (16 U.S.C. 971 et seq.). Regulations at 50 CFR 600.745 and 50 CFR 635.32 govern scientific research activity, exempted fishing, and exempted educational activity with respect to Atlantic HMS.

Several operators of permitted Atlantic tuna purse seine vessels, a transfer vessel, and a holding vessel have requested exemptions from certain regulations applicable to the harvest and landing of BFT in order to conduct research on BFT in the Gulf of Maine area. Specifically, the permitted purse seine vessels propose to transfer BFT that they catch to a cage towed by the holding vessel, and tag the BFT with pop-up tags to investigate premature tag shedding. During the course of the tagging study, approximately 20 BFT may be harvested per day to investigate characteristics of tagging sites and tag retention, and to investigate the economic impact of delayed landings in the purse seine fishery. BFT would be harvested from the cage using experimental gears including a diver and/or electric speargun and would be transported to port via a transfer vessel. The holding and transfer vessels may not have Atlantic tunas permits, thus landings and other reporting procedures may need to be altered to account for the delayed harvesting operations. The applicants state that delayed landing of the harvested fish could enhance marketing opportunities and prices by coordinating landings with strong market activity. According to the applicants, these operations may benefit all U.S. commercial BFT fishing categories by improving scientific data available for BFT management and avoiding the market gluts experienced in recent years.

The applicants also request an exemption to allow permitted Atlantic tunas purse seine vessels participating in the experiment to exceed the 15-percent tolerance level for incidental catch of bluefin tuna between 73 and 81 inches (185 and 206 cm). In their request, the applicants state that the current 15 percent tolerance for fish below 81 inches (206 cm) could be a restrictive factor limiting the success of the experiment. The applicants note that in recent years mixed schools of giant and large medium bluefin tuna have been prevalent, particularly early in the season, which is the time period proposed for the experiment. In the event that such conditions persist in 2004, the applicants believe that the experiment could potentially result in greater mortality to smaller fish necessitating relief from the tolerance level for the remainder of the season.

The regulations that would prohibit the proposed activities include requirements to use authorized gear (50 CFR 635.21); prohibition of BFT transfer at sea (50 CFR 635.29); vessel fishing permits (50 CFR 635.4); and prohibition of approaching within 100 feet of a purse seine vessel while gear is deployed (50 CFR 635.71). In addition, certain reporting requirements may be adjusted to allow for the delayed landing of purse seine harvested fish.

NMFS invites comments from interested parties on potential concerns should these EFPs be issued.

Authority: 16 U.S.C. 971 et seq. and 16 U.S.C. 1801 et seq.

Dated: June 24, 2004.
Alan D. Risenhoover,
Deputy Director, Office of Sustainable Fisheries, National Marine Fisheries Service.

[FR Doc. 04-14843 Filed 6-25-04; 2:58 pm]

BILLING CODE 3510-22-S